DEPARTMENT OF HEALTH AND HUMAN SERVICES

Centers for Medicare and Medicaid Services

[Document Identifier: CMS-R-39, CMS-R-243, CMS-R-131, and CMS-10103]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Home health Medicare Conditions of Participation (CoP) Information Collection Requirements and Supporting Regulations in 42 CFR 484.10, 484.12, 484.14, 484.16, 484.18, 484.36, 484.48, and 484.52; Form No.: CMS-R-39 (OMB# 0938-0365); Use: 42 CFR 484 outlines Home Health Agency Medicare CoP to ensure HHAs meet the Federal patient health and safety regulations; Frequency: Annually; Affected Public: Business or other for-profit, not-for-profit institutions, Federal Government, and State, Local or Tribal Government; Number of Respondents: 7,122; Total Annual Responses: 7,122; Total Annual Hours: 854,891.

2. Type of Information Collection Request: Extension of a currently approved collection; Title of Information Collection: Medicare Agreement Application, Health Care Prepayment Plan and Supporting Regulations in 42 CFR 417.800-417.840.; Form No.: CMS-R-243 (OMB# 0938-0768); Use: An organization must meet certain requirements to be a Health Care Prepayment Plan that is eligible for a Medicare Section 1833 agreement. The application is the collection form to obtain the information from an organization that would allow CMS staff to determine compliance with the regulations.; Frequency: One-time Submission; Affected Public: Business or other for-profit, not-for-profit institutions, and State, Local or Tribal Government; Number of Respondents: 15; Total Annual Responses: 15; Total Annual Hours: 1,125.

3. Type of Information Collection Request: Extension of a currently approved collection; Title of Information Collection: Advanced Beneficiary Notice and Supporting Regulations in 42 CFR 411.404, 411.406, and 411.408.; Form No.: CMS-R-131 (OMB# 0938-0566); Use: Physicians, practitioners, suppliers, and providers furnishing Part A or Part B items or services may bill a patient for items of services denied by Medicare as not reasonable and necessary, under Medicare program standards (Section 1862(a)(1) of title XVIII of the Social Security Act (the Act), or under one of several other statutory bases (Section 1862(a)(9), Section 1814(a)(2)(C), Section 1835(a)(2)(A), Section 1861(dd)(3)(A), Section 1834(j)(1), Section 1834(a)(15), and Section 1834(a)(17)(B) of the Act), if they informed the patient, prior to furnishing the items or services and the patient, after being so informed, agreed to pay for the items or services.; Frequency: As-needed; Affected Public: Business or other for-profit, not-for-profit institutions, and Individuals or households; Number of Respondents: 1,084,932; Total Annual Responses: 21,171,480; Total Annual Hours: 1,764,290.

4. Type of Information Request: New Collection; Title of Information Collection: Evaluation of PACE as a Permanent Program and a For-Profit Demonstration; Form No.: CMS-10103 (OMB# 0938-NEW); Use: The Balanced Budget Act of 1997 (BBA) established PACE as a permanent Medicare program and a state option under Medicaid. It also mandated a for-profit demonstration and a study of the “quality and cost” of the permanent program “under the Medicare and Medicaid programs.” All PACE Demonstration sites must convert to permanent program sites in 2003. This evaluation will build on the efforts made in the first PACE evaluation (final reports in 2000). Data will be gathered to assess changes in access to care, patient satisfaction, mortality, organizational/operational changes, patient characteristics, outcomes, quality, etc. that have resulted from the BBA legislation. Patient surveys, site surveys, and claims and utilization data gathered at 12 sites will help answer these study questions. Mathematica Policy Research, Inc. is awarded a contract (No. 500-00-0033) to perform this evaluation. A final report is expected in the summer of 2006.; Frequency: Other: One-time; Affected Public: Individuals or Households, Not-for-profit institutions; Number of Respondents: 2,996; Total Annual Responses: 2,996; Total Annual Hours: 1,723.

To obtain copies of the supporting statement and any related forms for the proposed paperwork collections referenced above, access CMS's Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: December 18, 2003.
Melissa Musotto,
Acting, Paperwork Reduction Act Team Leader, Office of Strategic Operations and Strategic Affairs, Division of Regulations Development and Issuances.

[FR Doc. 03-32045 Filed 12-29-03; 8:45 am]

BILLING CODE 4120-03-P